Proclamation 8265 of May 30, 2008

Great Outdoors Month, 2008

By the President of the United States of America

A Proclamation

From the Appalachian Mountains to the Grand Canyon, America is blessed with places of natural beauty where our citizens can discover the full splendor of this great Nation. During Great Outdoors Month, our Nation celebrates the grandeur of our open spaces, strengthens our commitment to preserving this heritage, and reaffirms our dedication to protecting our air, water, and lands.

My Administration remains dedicated to wise stewardship of the environment, and we will continue to protect our Nation's natural wonders. This past year, we have made great strides in helping wildlife thrive and in restoring habitat for migratory birds through cooperative conservation. Working with State and tribal officials, we are preserving important wildlife habitats and expanding the National Wildlife Refuge system. Citizens can visit takepride.gov to learn more about opportunities to care for our environment.

Great Outdoors Month is an opportunity to honor those who work to keep our natural places beautiful and to celebrate some of our country's favorite outdoor pastimes. These activities encourage a healthy lifestyle and give Americans pride in the great American landscape. As responsible stewards of our natural resources, we can help ensure that the great outdoors will be available for enjoyment by generations to come.

NOW, THEREFORE, I, GEORGE W. BUSH, President of the United States of America, by virtue of the authority vested in me by the Constitution and laws of the United States, do hereby proclaim June 2008 as Great Outdoors Month. I call on all Americans to observe this month with appropriate programs and activities, and to take time to visit and enjoy the great outdoors.

IN WITNESS WHEREOF, I have hereunto set my hand this thirtieth day of May, in the year of our Lord two thousand eight, and of the Independence of the United States of America the two hundred and thirty-second.

[FR Doc. 08-1323

Filed 6-3-08; 8:59 am]

Billing code 3195-01-P